DEPARTMENT OF HOMELAND SECURITY

Coast Guard

[Docket No. USCG 2007-0010]

Chemical Transportation Advisory Committee

AGENCY: Coast Guard, DHS.

ACTION: Notice of meeting.

SUMMARY: The Chemical Transportation Advisory Committee (CTAC) will meet in Arlington, VA to discuss various issues relating to the marine transportation of hazardous materials in bulk. The meeting will be open to the public.

DATES: CTAC will meet on Thursday, November 1, 2007, from 9:30 a.m. to 3 p.m. Written material and requests to make oral presentations should reach the Coast Guard on or before October 26, 2007. Requests to have a copy of your material distributed to each member of the committee should reach the Coast Guard on or before October 26, 2007.

ADDRESSES: CTAC will be meeting at Top of the Town, 1400 14th Street North, Arlington, VA. Send written material and requests to make oral presentations to Commander Rick Raksnis, Commandant (CG-5223), U.S. Coast Guard Headquarters, 2100 Second Street, SW., Washington, DC 20593-0001.

FOR FURTHER INFORMATION CONTACT: Commander Rick Raksnis, Executive Director of CTAC, or Sara Ju, Assistant to the Executive Director, telephone 202-372-1422, fax 202-372-1926.

SUPPLEMENTARY INFORMATION: Notice of the meeting is given under the Federal Advisory Committee Act, 5 U.S.C. App. (Pub. L. 92-463).

Agendas of Meetings

Chemical Transportation Advisory Committee (CTAC). The agenda includes the following:

(1) Progress report from the Outreach Subcommittee and its Barge Emission/Barge Hazard Communications Workgroup.

(2) Status report on the implementation of MARPOL Annex II regarding Offshore Supply Vessels (OSV).

(3) Progress Report on the NFPA 472 Subcommittee on revisions to the emergency responder chapter for tank vessels.

(4) Presentation on Biofuels and its impact on the maritime shipping industry.

(5) Presentation on Hazardous Materials First Responder training offered by the International Association of Fire Fighters.

(6) Status report on the implementation of the International Maritime Solid Bulk Cargoes (IMSBC).

Procedural

The meeting is open to the public. At the Chair's discretion, members of the public may make oral presentations during the meeting. If you would like to make an oral presentation at the meeting, please notify the Executive Director no later than October 26, 2007. Written material for distribution at the meeting should reach the Coast Guard no later than October 26, 2007. If you would like a copy of your material distributed to each member of the committee in advance of the meeting, please submit 25 copies to the Executive Director no later than October 26, 2007.

Information on Services for Individuals With Disabilities

For information on facilities or services for individuals with disabilities or to request special assistance at the meetings, contact the Executive Director as soon as possible.

Dated: October 15, 2007.
J. Lantz,
Director of Commercial Regulations and Standards.

[FR Doc. 07-5170 Filed 10-16-07; 1:22 pm]

BILLING CODE 4910-15-P